DEPARTMENT OF COMMERCE

National Oceanic and Atmospheric Administration

Evaluations of National Estuarine Research Reserves and Coastal Management Programs

AGENCY: Office for Coastal Management (OCM), National Ocean Service (NOS), National Oceanic and Atmospheric Administration (NOAA), Department of Commerce (DOC).

ACTION: Notice.

SUMMARY: The National Oceanic and Atmospheric Administration (NOAA), Office for Coastal Management will hold a public meeting to solicit comments on the performance evaluation of the Tijuana River National Estuarine Research Reserve. Notice is also hereby given of the availability of the final evaluation findings for the Florida Coastal Management Program.

DATES: Tijuana River National Estuarine Research Reserve Evaluation: The public meeting will be held on Tuesday, July 19, 2016, and written comments must be received on or before Friday, July 29, 2016.

For specific dates, times, and locations of the public meetings, see SUPPLEMENTARY INFORMATION.

ADDRESSES: You may use any of the following methods to submit comments regarding the reserve NOAA intends to evaluate:

Public Meeting and Oral Comments: Public meetings will be held in Imperial City, California. For specific locations, see SUPPLEMENTARY INFORMATION.

Written Comments: Please direct written comments to Ralph Cantral, Evaluator, Policy, Planning and Communications, Office for Coastal Management, NOS/NOAA, 1305 East-West Highway, 11th Floor, N/OCM1, Silver Spring, Maryland 20910, or email comments to Ralph.Cantral@noaa.gov.

FOR FURTHER INFORMATION CONTACT: Ralph Cantral, Evaluator, Policy, Planning and Communications, Office for Coastal Management, NOS/NOAA, 1305 East-West Highway, 11th Floor, N/OCM1, Silver Spring, Maryland 20910, or Ralph.Cantral@noaa.gov. Copies of the final evaluation findings and related material (including past performance reports and notices prepared by NOAA's Office for Coastal Management) may be obtained upon written request by contacting Ralph Cantral. Copies of the final evaluation findings may also be downloaded or viewed on the Internet at http://coast.noaa.gov/czm/evaluations/evaluation_findings/index.html.

SUPPLEMENTARY INFORMATION: Sections 312 and 315 of the Coastal Zone Management Act (CZMA) require NOAA to conduct periodic evaluations of federally approved national estuarine research reserves. The process includes a public meeting, consideration of written public comments and consultations with interested Federal, state, and local agencies and members of the public. During the evaluation, NOAA will consider the extent to which the state has met the national objectives, adhered to the final management plan approved by the Secretary of Commerce, and adhered to the terms of financial assistance under the CZMA. When the evaluation is completed, NOAA's Office for Coastal Management will place a notice in the Federal Register announcing the availability of the Final Evaluation Findings.

Specific information on the periodic evaluation of reserves that are the subject of this notice are detailed below:

Tijuana River National Estuarine Research Reserve Evaluation

You may participate or submit oral comments at the public meeting scheduled as follows:

Date: July 19, 2016.

Time: 6 p.m., local time.

Location: 301 Caspian Way, Imperial Beach, California 91932.

Written comments must be received on or before July 29, 2016.

Availability of Final Evaluation Findings of Other State and Territorial Coastal Programs

The NOAA Office for Coastal Management has completed review of the Coastal Zone Management Program evaluations for the state of Florida. The state was found to be implementing and enforcing their federally approved coastal management program, addressing the national coastal management objectives identified in CZMA Section 303(2)(A)-(K), and adhering to the programmatic terms of their financial assistance awards. Copies of the final evaluation findings may be downloaded at http://coast.noaa.gov/czm/evaluations/evaluation_findings/index.html or by submitting a written request to the person identified under FOR FURTHER INFORMATION CONTACT.

Dated: May 23, 2016.
John King,
Deputy Director, Office for Coastal Management, National Ocean Service, National Oceanic and Atmospheric Administration.

Federal Domestic Assistance Catalog 11.419 Coastal Zone Management Program Administration

[FR Doc. 2016-12783 Filed 5-27-16; 8:45 am]

BILLING CODE 3510-08-P